DEPARTMENT OF COMMERCE

Foreign-Trade Zones Board

[B-18-2018]

Production Activity Not Authorized; Foreign-Trade Zone (FTZ) 26—Atlanta, Georgia; PBR, Inc. d/b/a SKAPS Industries (Non-Woven Geotextiles); Athens, Georgia

On March 9, 2018, PBR, Inc. d/b/a SKAPS Industries (SKAPS) submitted a notification of proposed production activity to the FTZ Board for its facility within FTZ 26—Site 29, in Athens, Georgia.

The notification was processed in accordance with the regulations of the FTZ Board (15 CFR part 400), including notice in the Federal Register inviting public comment (83 FR 13473, March 29, 2018). On July 9, 2018 the applicant was notified of the FTZ Board's decision that further review of the activity is warranted. The production activity described in the notification was not authorized. If the applicant wishes to seek authorization for this activity, it will need to submit an application for production authority, pursuant to Section 400.23.

Dated: July 9, 2018.
Elizabeth Whiteman,
Acting Executive Secretary.

[FR Doc. 2018-14928 Filed 7-11-18; 8:45 am]

BILLING CODE 3510-DS-P